DEPARTMENT OF COMMERCE

International Trade Administration

[C-570-173]

Vanillin From the People's Republic of China: Preliminary Affirmative Countervailing Duty Determination and Alignment of Final Determination With Final Antidumping Duty Determination; Correction

AGENCY: Enforcement and Compliance, International Trade Administration, Department of Commerce.

ACTION: Notice; correction.

SUMMARY: The U.S. Department of Commerce (Commerce) published a notice in the Federal Register on November 18, 2024, in which it announced the preliminary determination in the countervailing duty (CVD) investigation of vanillin from the People's Republic of China (China). In this notice, Commerce incorrectly identified the mandatory respondent in the investigation as Jiaxing Guihua Chemical Import and Export Co., Ltd. The correct name of the mandatory respondent is Jiaxing Guihua Imp. & Exp. Co., Ltd.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On November 18, 2024, Commerce published in the Federal Register notice of the preliminary determination in the CVD investigation of vanillin from China.¹ In that notice, Commerce incorrectly identified the name of the mandatory respondent in the investigation as Jiaxing Guihua Chemical Import and Export Co., Ltd. The correct name of the mandatory respondent is Jiaxing Guihua Imp. & Exp. Co., Ltd.

¹ See Vanillin from the People's Republic of China: Preliminary Affirmative Countervailing Duty Determination and Alignment of Final Determination with Final Antidumping Duty Determination, 89 FR 90671 (November 18, 2024).

Correction

In the Federal Register of November 18, 2024, in FR Doc 2024-26770, at 89 FR 90672, correct the text and the table in the second column of the page, by replacing “Jiaxing Guihua Chemical Import and Export Co., Ltd.” with “Jiaxing Guihua Imp. & Exp. Co., Ltd.”

Notification to Interested Parties

This notice is issued and published in accordance with sections 703(f) and 777(i)(1) of the Tariff Act of 1930, as amended, and 19 CFR 351.224(e).

Dated: January 22, 2025.
Abdelali Elouaradia,
Acting Assistant Secretary for Enforcement and Compliance.

[FR Doc. 2025-01797 Filed 1-27-25; 8:45 am]

BILLING CODE 3510-DS-P